DEPARTMENT OF COMMERCE

Foreign-Trade Zones Board

[B-88-2012]

Foreign-Trade Zone 84—Houston, Texas, Authorization of Production Activit, Mitsubishi Caterpillar Forklift America Inc. (Forklift Trucks), Houston, TX

On November 2, 2012, the Port of Houston Authority, grantee of FTZ 84, submitted a notification of proposed production activity to the Foreign-Trade Zones (FTZ) Board on behalf of Mitsubishi Caterpillar Forklift America Inc., in Houston, Texas.

The notification was processed in accordance with the regulations of the FTZ Board (15 CFR part 400), including notice in the Federal Register inviting public comment (77 FR 74170-74171, 12-13-2012). The FTZ Board has determined that no further review of the activity is warranted at this time. The production activity described in the notification is authorized, subject to the FTZ Act and the Board's regulations, including Section 400.14.

Dated: March 5, 2013.
Andrew McGilvray,
Executive Secretary.

[FR Doc. 2013-05648 Filed 3-11-13; 8:45 am]

BILLING CODE 3510-DS-P